FEDERAL COMMUNICATIONS COMMISSION

Public Information Collections Approved by Office of Management and Budget

May 20, 2005.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington, DC 20554, (202) 418-1359 or via the Internet at plaurenz@fcc.gov.

SUPPLEMENTARY INFORMATION: OMB Control No.: 3060-0149.

OMB Approval Date: 4/28/2005.

Expiration Date: 4/30/2008.

Title: Application and Supplemental Information Requirements—Part 63, Sec. 214, sections 63.01-02; 63.50-53; 63.60-63; 63.65-66; 63.71; 63.90; 63.500-01; 63.504-05; and 63.601.

Form No.: N/A.

Estimated Annual Burden: 35 responses; 175 total annual burden hours; approximately 5 hours average per respondent.

Needs and Uses: Section 214 of the Communications Act of 1934, as amended, requires that the FCC review establishment, acquisition, operation, line extension, and service discontinuance by interstate common carriers. Since 1999, however, the Commission has only regulated the acquisition and discontinuance of domestic telecommunciations services. This OMB collection pertains primarily to section 63.71 of the Commission's rules, which governs the authorization process for domestic discontinuance, impairment or reduction in service.

OMB Control No.: 3060-0823.

OMB Approval Date: 5/2/2005.

Expiration Date: 05/31/2008.

Title: Pay Telephone Reclassification Memorandum Opinion and Order, CC Docket No. 96-128.

Form No.: N/A.

Estimated Annual Burden: 400 responses; 44,700 total annual burden hours; 2-35 hours average response time per respondent.

Needs and Uses: In the MO&O issued in CC Docket No. 96-128, the Wireline Competition Bureau clarified requirements established in the Payphone Orders for the provision of payphone-specific coding digits by LECs and PSPs, to IXCs, beginning October 7, 1997. Specifically, the Order clarified that only FLEX ANI comply with the requirements; required that LECs file tariffs to reflect FLEX ANI as a nonchargeable option to IXCs; requires that LECs file tariffs to recover costs associated with implementing FLEX ANI; and grants permission and certain waivers.

OMB Control No.: 3060-0298.

OMB Approval Date: 5/2/2005.

Expiration Date: 5/31/2008.

Title: Tariffs (Other Than Tariff Review Plan)—Part 61.

Form No.: N/A.

Estimated Annual Burden: 1,160 responses; 66,120 total annual burden hours; 57 hours per respondent.

Needs and Uses: Part 61 is designed to ensure that all tariffs filed by common carriers are formally sound, well organized, and provide the Comission and the public with sufficient information to determine the justness and reasonableness as required by the Act, of the rates, terms and conditions in those tariffs.

OMB Control No.: 3060-0391.

OMB Approval Date: 5/12/2005.

Expiration Date: 5/31/2008.

Title: Program to Monitor the Impacts of the Universal Service Support Mechanisms, CC Docket Nos. 98-202, 96-45.

Form No.: N/A.

Estimated Annual Burden: 1,456 responses; 971 total annual burden hours; .66 hours average per respondent.

Needs and Uses: The Commission has a program to monitor the impacts of the universal service support mechanisms. The program requires periodic reporting by telephone companies and the universal service administrator. The information is used by the Commission, Federal-State Joint Boards, Congress, and the general public to assess the impacts of the decisions of the Commission and the Joint Boards.

OMB Control No.: 3060-0715.

OMB Approval Date: 5/11/2005.

Expiration Date: 5/31/2008.

Title: Telecommunications Carriers' Use of Customer Proprietary Network Information (CPNI) and Other Customer Information, CC Docket No. 96-115.

Form No.: N/A.

Estimated Annual Burden: 4,832 responses; 669,808 total annual burden hours; .5-78 hours average per respondent.

Needs and Uses: The Memorandum Opinion and Order on Reconsideration (FCC 04-206) was released in response to reconsideration requests for the Commission's Subscriber List Information Order, which implemented section 222(e) of the Act. Section 222(e) requires carriers to provide their subscriber list information (i.e., the names, addresses, phone numbers, and, where applicable, yellow pages advertising classifications) of their telephone exchange services subscribers to requesting directory publishers on a timely and unbundled basis and under reasonable and nondiscriminatory rates, terms, and conditions.

OMB Control No.: 3060-0997.

OMB Approval Date: 5/12/2005.

Expiration Date: 5/31/2008.

Title: 47 CFR Section 52.15(k), Numbering Utilization and Compliance Audit Program.

Form No.: N/A.

Estimated Annual Burden: 25 responses; 825 total annual burden hours; 33 hours average per respondent.

Needs and Uses: The audit program, consisting of audit procedures and guidelines, was developed to conduct random audits. The random audits are conducted on the carriers that use numbering resources in order to verify the accuracy of numbering data reported on FCC Form 502, and to monitor compliance with FCC rules, orders and applicable industry guidelines. Failure of the audited carrier to respond to the audits can result in penalties. Based on the final audit report, evidence of potential violations may result in enforcement action.

OMB Control No.: 3060-0496.

OMB Approval Date: 3/2/2005.

Expiration Date: 3/31/2008.

Title: The ARMIS Operating Data Report.

Form No.: FCC 43-08.

Estimated Annual Burden: 55 responses; 7,645 total annual burden hours; 139 hours average per respondent.

Needs and Uses: The Operating Data Report collects annual statistical data in a consistemt format that is essential for the Commission to monitor network growth, usage, and reliability.

Federal Communications Commission.
Marlene H. Dortch,
Secretary.

[FR Doc. 05-10337 Filed 5-24-05; 8:45 am]

BILLING CODE 6712-01-P